ENVIRONMENTAL PROTECTION AGENCY

[EPA-HQ-OPPT-2003-0004; FRL-8352-7]

Access to Confidential Business Information by Abt Associates, Inc.

AGENCY: Environmental Protection Agency (EPA).

ACTION: Notice.

SUMMARY: EPA has authorized its contractor, Abt Associates, Inc. (Abt) of Bethesda, MD and its subcontractors Eastern Research Group (ERG) of Chantilly, VA and Lexington, MA; and Syracuse Research Corporation (SRC) of Arlington, VA and North Syracuse, NY, to access information which has been submitted to EPA under all section(s) of the Toxic Substances Control Act (TSCA). Some of the information may be claimed or determined to be Confidential Business Information (CBI).

Dates: Access to the confidential data will occur no sooner than March 5, 2008.

FOR FURTHER INFORMATION CONTACT: For general information contact: Colby Lintner, Regulatoryr, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Scott Sherlock, Environmental Assistance Division (7408M), Office Pollution Prevention and Toxics, Environmental Protection Agency, 1200 Pennsylvania Ave., NW., Washington, DC 20460-0001; telephone number: (202) 564-8257; e-mail address: sherlock.scott@epa.gov.

SUPPLEMENTARY INFORMATION:

I. General Information

A. Does this Action Apply to Me?

You may be potentially affected by this action if you are or may be required to conduct testing of chemical substances under the Toxic Substances Control Act (TSCA). Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established a docket for this action under docket identification (ID) number EPA-HQ-OPPT-2003-0004. All documents in the docket are listed in the docket's index available at http://www.regulations.gov. Although, listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., N.W., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. What Action is the Agency Taking?

Under Contract Number EP-W-08-010, Abt of 4800 Montgomery Lane, Bethesda, MD and 55 Wheeler Street, Cambridge, MA; ERG of Avion Lakeside Drive D, 14555 Avion Parkway, Chantilly, VA and 110 Hartwell Avenue, Lexington, MA; and SRC of 2451 Crystal Dr., Suite 804, Arlington, VA and 7502 Round Pond, Road, North Syracuse, NY, will assist the Office of Pollution Prevention and Toxics (OPPT) in performing economic and market analysis related to new and existing chemicals. These analyses will largely be of the costs, economic impacts, benefits, and regulatory impacts of actual or potential EPA actions taken under TSCA. They will also support the voluntary Design for the Environment and Green Chemistry programs.

In accordance with 40 CFR 2.306(j), EPA has determined that under Contract Number EP-W-08-010, Abt and its subcontractors will require access to CBI submitted to EPA under all section(s) of TSCA to perform successfully the duties specified under the contract. Abt and its subcontractors will be given access to information submitted to EPA under all section(s) of TSCA. Some of the information may be claimed or determined to be CBI.

EPA is issuing this notice to inform all submitters of information under all section(s) of TSCA that EPA may provide Abt and its subcontractors access to these CBI materials on a need-to-know basis only. All access to TSCA CBI under this contract will take place at EPA Headquarters; Abt sites in Bethesda, MD and Cambridge, MA; ERG sites in Chantilly, VA and Lexington, MA; and SRC sites in Arlington, VA and North Syracuse, NY.

Abt and its subcontractors will be authorized access to TSCA CBI at EPA Headquarters and their sites under the EPA TSCA CBI Protection Manual.

Access to TSCA data, including CBI, will continue until March 30, 2014. If the contract is extended, this access will continue without further notice.

Abt and its subcontractors will be required to sign nondisclosure agreements and will be briefed on appropriate security procedures before they are permitted access to TSCA CBI.

List of Subjects

Environmental protection, Confidential Business Information.

Dated: February 12, 2008.
Brion Cook,
Director, Information Management Division, Office of Pollution Prevention and Toxics.

[FR Doc. E8-3249 Filed 2-26-08; 8:45 a.m.]

BILLING CODE 6560-50-S